DEPARTMENT OF THE INTERIOR

Bureau of Land Management

[BLM_NV_FRN_MO4500183047]

Notice of Availability of the Proposed Resource Management Plan Amendment and Final Environmental Impact Statement for the Rough Hat Clark Solar Project in Clark County, NV

AGENCY: Bureau of Land Management, Interior.

ACTION: Notice of availability.

SUMMARY: In compliance with the National Environmental Policy Act of 1969, as amended (NEPA), and the Federal Land Policy and Management Act of 1976, as amended (FLMPA), the Bureau of Land Management (BLM) has prepared a Proposed Resource Management Plan (RMP) Amendment and Final Environmental Impact Statement (EIS) for the Rough Hat Clark Solar Project and by this notice is announcing the start of a 30-day protest period of the Proposed RMP Amendment to the BLM Director.

DATES: This notice announces the opening of a 30-day protest period for the Proposed RMP Amendment. Protests must be postmarked or electronically submitted on the BLM's National NEPA Register site within 30 days of the date that the Environmental Protection Agency (EPA) publishes its Notice of Availability (NOA) in the Federal Register. The EPA usually publishes its NOAs on Fridays.

ADDRESSES: The Proposed RMP Amendment, Final EIS, and associated documents are available on the BLM National NEPA Register project website at https://eplanning.blm.gov/eplanning-ui/project/2019992/510. Documents pertinent to this proposal may also be examined at the Southern Nevada District Office, Las Vegas Field Office, 4701 N Torrey Pines Drive, Las Vegas, Nevada 89130.

Instructions, including addresses, for filing a protest with the BLM for the Rough Hat Clark Solar Project can be found at: https://www.blm.gov/programs/planning-and-nepa/public-participation/filing-a-plan-protest and at 43 CFR 1610.5-2.

FOR FURTHER INFORMATION CONTACT: Jessica Headen, Project Manager, telephone (702) 515-5206, address Bureau of Land Management, 4701 N Torrey Pines Drive, Las Vegas, NV 89130. Individuals in the United States who are deaf, deafblind, hard of hearing, or have a speech disability may dial 711 (TTY, TDD, or TeleBraille) to access telecommunications relay services for contacting Ms. Headen. Individuals outside the United States should use the relay services offered within their country to make international calls to the point-of-contact in the United States.

SUPPLEMENTARY INFORMATION: The Proposed RMP Amendment is being considered to allow the BLM to evaluate the effects of granting a right-of-way (ROW) for the Rough Hat Clark Solar Project. This process requires amending the existing 1998 Las Vegas Resource Management Plan (Las Vegas RMP) to modify the Visual Resource Management (VRM) Class of lands south of State Route 160 and west of Tecopa Road to the Town of Pahrump, Nevada. The Applicant's proposed Project does not conform with the management objectives of the Project area's current VRM classification (Class III), and therefore the designated lands would be modified from VRM Class III to VRM Class IV.

The Proposed RMP Amendment covers a larger area than the Rough Hat Clark Solar Project application area. The Proposed RMP Amendment area would encompass approximately 9,960 acres of BLM-administered land. This area includes the location where the Yellow Pine Solar Project is currently under construction, as well as lands within the application areas for the Copper Rays, Mosey, and Purple Sage Solar Projects. Given the existing and proposed uses of this area, amending the VRM from Class III to Class IV is necessary to ensure activities conform with the Las Vegas RMP.

Purpose and Need

The need for the BLM's action is to respond to the Applicant's request for a ROW authorization to construct, operate, maintain, and decommission the proposed Project in accordance with the BLM's responsibility under Title V of FLPMA and 43 CFR part 2800. The BLM's action of considering the ROW application also would meet the BLM's obligation to contribute towards the legislative and administrative goals of advancing the development of renewable energy production on Federal public lands, as directed by Section 3104 of the Energy Act of 2020 and Executive Order 14057.

The Project as proposed would not conform to the 1998 Las Vegas RMP as required by 43 CFR 1610.5-3(a). The BLM would need to amend the RMP to bring it into compliance, as discussed above.

The purpose of the BLM's action is to determine if the Applicant's Project and alternatives are consistent with relevant laws, regulations, and policies, and to consider whether to grant, grant with modifications, or deny the ROW. The purpose of the RMP Amendment is to ensure that any development of renewable energy production in the general vicinity of the Applicant's proposed Project area conforms with the RMP's provisions, as provided for in 43 CFR 1610.5-3(c), specifically by reclassifying this geographic area as VRM Class IV.

Alternatives Considered

The Applicant, Candela Renewables, LLC, applied to the BLM's Las Vegas Field Office for a ROW grant to provide the necessary land and access for the construction, operation, maintenance, and eventual decommissioning of the proposed Rough Hat Clark Solar Project and interconnection to the regional transmission system. The Proposed Action would include up to a 400-megawatt (MW) alternating current solar photovoltaic power generating facility with up to 700 MW of battery energy storage on approximately 2,469 acres of BLM-managed public land. The Project area is located in the Pahrump Valley in Clark County, Nevada, immediately adjacent to the Clark/Nye county line, three miles southeast of the Town of Pahrump, and approximately 38 miles west of the City of Las Vegas. The expected life of the Project is 30 years.

Alternatives to the Proposed Action were developed by the BLM to avoid or reduce various resource conflicts. Key resource constraints include the habitat for and presence of the Mojave desert tortoise listed as threatened under the Endangered Species Act, along with limited groundwater resources, vegetation at the Project area, and the generation of dust.

The BLM analyzed three alternatives in detail: the Applicant Proposed Action, Alternative Action 1, and the No Action Alternative.

Alternative Action 1, referred to as the Resources Integration Alternative, was developed in response to issues raised by the public and agency considerations. The intent of the Resources Integrated Alternative is to minimize disturbance to vegetation and soils within the solar facility by setting maximum allowable disturbance thresholds to vegetation during construction, setting restoration goals, and utilizing topography-spanning technologies. The Resources Integration Alternative would implement overland travel for project construction as this method is less intensive than others and is expected to improve the retention of native vegetation, wildlife habitat, soils, seed banks, and biological soil crusts while minimizing water quality impacts and air quality impacts from fugitive dust.

The No Action Alternative would be a continuation of existing conditions and the ROW would not be approved.

The BLM evaluated the alternatives in consultation with other Federal and State agencies, Tribes, the public, and cooperating agencies. The BLM's Preferred Alternative is Alternative 1, the Resources Integration Alternative.

The BLM analyzed a combination of Project Design Features and Best Management Practices to eliminate or minimize impacts associated with the BLM Preferred Alternative. This includes required Solar PEIS Programmatic Design Features, Southern Nevada District Office Project Design Features, and required management plans, all of which are detailed in Appendix B of the Final EIS.

The BLM published the NOA of the Draft EIS and RMP Amendment in the Federal Register on January 12, 2024. The publication of the NOA began a 90-day public comment period that ended on April 11, 2024. The BLM hosted two public meetings, held on January 30, 2024 (in-person in Pahrump, Nevada), and February 1, 2024 (virtual), to provide the public with the opportunity to speak with BLM representatives, ask questions, and submit comments.

The BLM received a total of 207 substantive and non-substantive letters and verbally recorded comments from 7 Federal, State, and local agencies; 1 member of a Native American Tribe; 9 non-governmental organizations; 1 private company; and 189 individual members of the public. Detailed responses to comments can be found in Appendix G of the Final EIS. In response to the substantive comments received, the BLM made corrections to analyses or data in the EIS or explained why the comments did not warrant additional changes to the EIS. For example, the BLM updated the acreages of impacts for the Proposed Action and Alternative 1, added information regarding the U.S. Fish and Wildlife Service Biological Opinion and impacts to desert tortoise, revised descriptions of Project infrastructure, updated the groundwater analysis, revised the cultural resources and recreation analysis, and included two new mitigation measures addressing the monarch butterfly and desert tortoise.

Protest of the Proposed RMP Amendment

The BLM planning regulations state that any person who participated in the preparation of the RMP and has an interest that will or might be adversely affected by approval of the Proposed RMP Amendment may protest its approval to the BLM. Protest of the Proposed RMP Amendment constitutes the final opportunity for administrative review of the proposed land use planning decisions prior to the BLM adopting an approved RMP Amendment. Instructions for filing a protest with the BLM regarding the Proposed RMP Amendment may be found online (see ADDRESSES). All protests must be in writing and mailed to the appropriate address (found in the instructions for filing a protest) or submitted electronically through the BLM National NEPA Register project website (see ADDRESSES). Protests submitted by any other means will be invalid. The BLM will render a written decision on each protest. The decision of the BLM on the protest shall be the final decision of the Department of the Interior. Responses to valid protest issues will be compiled and documented in a Protest Resolution Report made available following the protest resolution online at: https://www.blm.gov/programs/planning-and-nepa/public-participation/protest-resolution-reports. Upon resolution of protests, the BLM will issue a Record of Decision and Approved RMP Amendment.

Before including your phone number, email address, or other personal identifying information in your protest, you should be aware that your entire protest—including your personal identifying information—may be made publicly available at any time. While you can ask us in your protest to withhold your personal identifying information from public review, we cannot guarantee that we will be able to do so.

(Authority: 40 CFR 1506.6, 40 CFR 1506.10 (2023), 43 CFR 1610.2, 43 CFR 1610.5, and 43 CFR part 2800)

Jon K. Raby,
State Director.

[FR Doc. 2024-25573 Filed 11-1-24; 8:45 am]

BILLING CODE 4331-21-P